DEPARTMENT OF COMMERCE

International Trade Administration

(A-428-815)

Initiation of Antidumping Duty Changed Circumstances Review: Certain Corrosion-Resistant Carbon Steel Flat Products from Germany

AGENCY: Import Administration, International Trade Administration, Department of Commerce.

SUMMARY: In accordance with section 751(b) of the Tariff Act of 1930, as amended (“the Act”), and section 351.216(b) of the U.S. Department of Commerce's (“the Department”) regulations, ThyssenKrupp Steel North America, Inc. (“ThyssenKrupp”), a U.S. importer, filed a request for the Department to initiate a changed circumstances review of the antidumping duty (“AD”) orders on certain corrosion-resistant carbon steel flat products (“CORE”) from Germany. The purpose of such review would be to partially revoke the order with respect to a certain product because of lack of interest by the domestic industry.¹ Mittal Steel USA (“Mittal Steel”), a domestic CORE producer, submitted a letter to the Department expressing a lack of interest in continuing to have the product in question subject to the antidumping duty order. Mittal Steel also stated that it is a major domestic producer of CORE. In response to the request made by the “interested party” within the meaning of section 771(9) of the Act, ThyssenKrupp, and the lack of interest from Mittal Steel, the Department is initiating a changed circumstances review on CORE from Germany with respect to a specific corrosion resistant steel product as described below.

¹ DaimlerChrylser Corporation (“DaimlerChrysler”), a domestic consumer of CORE, submitted letters to the Department pre-dating ThyssenKrupp's request, indicating that it had contacted United States Steel Corporation, Mittal Steel, AK Steel, and Nucor Corporation and determined they are not interested in maintaining the antidumping duty order with respect to the product in question. See Letters to the Department from DaimlerChrysler dated June 22, 2006, and July 18, 2006.

EFFECTIVE DATE: September 12, 2006.

FOR FURTHER INFORMATION CONTACT: Judy Lao or Abdelali Elouaradia, AD/CVD Operations, Office 7, Import Administration, International Trade Administration, U.S. Department of Commerce, 14th Street and Constitution Ave., NW, Washington, DC 20230; telephone: (202) 482-7924 and (202) 482-1374, respectively.

SUPPLEMENTARY INFORMATION:

Background

On August 17, 2006, ThyssenKrupp, a U.S. importer of CORE, requested a changed circumstance review with respect to a specific CORE. Specifically, ThyssenKrupp requested to exclude from the AD order on CORE from Germany, imports meeting the following description: Electrolytically zinc coated flat steel products, with a coating mass between 35 and 72 grams per meter squared on each side; with a thickness range of 0.67 mm or more but not more than 2.95 mm and width 817 mm or more but not over 1830 mm; having the following chemical composition (percent by weight): carbon not over 0.08, silicon not over 0.25, manganese not over 0.9, phosphorous not over 0.025, sulfur not over 0.012, chromium not over 0.1, titanium not over 0.005 and niobium not over 0.05; with a minimum yield strength of 310 Mpa and a minimum tensile strength of 390 Mpa; additionally coated on one or both sides with an organic coating containing not less than 30%% and not more than 60%% zinc and free of hexavalent chrome. See ThyssenKrupp letter to the Department dated August 17, 2006.

Scope of the Order

The product covered by this order is corrosion-resistant carbon steel flat products (“corrosion-resistant steel”) from Germany. This scope includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are flat-rolled products of non-rectangular cross-section where such cross-section is achieved subsequent to the rolling process (i.e., products which have been “worked after rolling”) - for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio.

On September 22, 1999, the Department issued the final results of a changed circumstances review partially revoking the order with respect to certain corrosion-resistant steel from Germany.² This partial revocation applies to certain corrosion-resistant deep-drawing carbon steel strip, roll-clad on both sides with aluminum (AlSi) foils in accordance with St3 LG as to EN 10139/10140. The merchandise's chemical composition encompasses a core material of U St 23 (continuous casting) in which carbon is less than 0.08; manganese is less than 0.30; phosphorous is less than 0.20; sulfur is less than 0.015; aluminum is less than 0.01; and the cladding material is a minimum of 99%% aluminum with silicon/copper/iron of less than 1%%. The products are in strips with thicknesses of 0.07mm to 4.0mm (inclusive) and widths of 5mm to 800mm (inclusive). The thickness ratio of aluminum on either side of steel may range from 3%%/94%%/3%% to 10%%/80%%/10%%.

² See Final Results of Changed Circumstances Antidumping Duty and Countervailing Duty Reviews and Revocation of Orders in Part: Certain Corrosion-Resistant Carbon Steel Flat Products from Germany, 64 FR 51292 (September 22, 1999). The Department noted that the affirmative statement of no interest by petitioners, combined with the lack of comments from interested parties, was sufficient to warrant partial revocation.

On March 22, 2006, the Department issued the final results of a changed circumstances review partially revoking the order with respect to certain corrosion-resistant steel from Germany.³ This partial revocation applies certain corrosion-resistant carbon steel flat products from Germany meeting the following description: certain flat-rolled wear plate ranging from 30 inches to 50 inches in width, from 45 inches to 110 inches in length and from 0.187 inch to 0.875 inch in total thickness, having a layer on one side composed principally of a combination of boron carbides, chromium carbides, nickel carbides, silicon carbides, manganese carbides, niobium carbides, iron carbides, tungsten carbides, vanadium carbides, titanium carbides and/or molybdenum carbides fused to a non-alloy flat-rolled steel substrate. The carbides are in the form of MxCx where “M” stands for the metal and “x” for the atomic ratio. An example of a common carbide would be (Cr7C3). The carbide layer is a visually distinct layer ranging in thickness from 0.062 inch to 0.312 inch with hardness at the surface of the carbide layer in excess of 55 HRC.

³ See Final Results of Changed Circumstances Antidumping and Countervailing Duty Reviews and Revocation of Orders in Part: Certain Corrosion-Resistant Carbon Steel Flat Products from Canada and Germany, 71 FR 14498 (March 22, 2006). The Department noticed that the affirmative statement of not interest in the continuation of the orders with respect to the product in question from the domestic interested parties, combined with the lack of comments from interested parties, was sufficient to warrant partial revocation.

The HTSUS item numbers are provided for convenience and Customs purposes. The written description remains dispositive.

Initiation of Changed Circumstances Review

Pursuant to section 751(b)(1) of the Act, the Department will conduct a changed circumstances review upon receipt of a request from an interested party for a review of an AD duty order which shows changed circumstances sufficient to warrant a review of the order. As noted above, on August 18, 2006, ThyssenKrupp requested for a ruling from the Department in accordance with 19 CFR 351.216(b) to exclude a specific corrosion resistant steel product as described above from this AD order. In addition, as noted above, Mittal Steel, a domestic interested party, has expressed a lack of interest in the order with respect to the product in question, and has stated that it is a major domestic producer of CORE. See Letter to the Department from Mittal Steel dated, August 18, 2006. Therefore, pursuant to section 751(b)(1) of the Act and 19 CFR 351.216(b), we are initiating a changed circumstances review. Interested parties are invited to comment on whether partial revocation of the order is appropriate based on lack of interest by domestic interested parties representing substantially all of the production of the domestic like product.

Public Comment

Interested parties may submit comments, which the Department will take into account in the preliminary results of this review. The due date for filing any such comments is no later than 15 days after publication of this notice. Responses to those comments may be submitted no later than seven days following submission of the comments. All written comments must be submitted in accordance with 19 CFR 351.303.

The Department will publish in the Federal Register a notice of preliminary results of changed circumstances reviews in accordance with 19 CFR 351.221(b)(4) and 351.221(c)(3)(i), which will set forth the Department's preliminary factual and legal conclusions. Pursuant to 19 CFR 351.221(b)(4)(ii), interested parties will have an opportunity to comment on the preliminary results. The Department will issue its final results of review in accordance with the time limits set forth in 19 CFR 351.216(e).

This notice is published in accordance with sections 751(b)(1) and 777(i)(1) of the Act and section 351.221(b) of the Department's regulations.

Dated: September 5, 2006.
David M. Spooner,
Assistant Secretary for Import Administration.

[FR Doc. E6-15088 Filed 9-11-06; 8:45 am]

BILLING CODE 3510-DS-S